DEPARTMENT OF THE INTERIOR

Bureau of Land Management

[AK-961-1410-HY-P; AA-84417; CAA-12]

Waiver of Regulations

AGENCY: Bureau of Land Management, Interior.

ACTION: Notice.

SUMMARY: This notice waives a portion of the regulations pertaining to selections made under subsection 14(h)(8) of the Alaska Native Claims Settlement Act (ANCSA) to allow Calista Corporation to file selections within the Calista regional boundaries. Calista Corporation is an Alaskan Native corporation established under Section 7 of ANCSA.

EFFECTIVE DATE: April 6, 2004.

FOR FURTHER INFORMATION CONTACT: Christy Favorite, Bureau of Land Management, 222 West Seventh Avenue, #13, Anchorage, Alaska 99513-7599, (907) 271-5656 (Commercial or FTS), cfavorit@ak.blm.gov. Persons who use a telecommunication device (TTD) may call the Federal Information Relay Service (FIRS) on 1-800-877-8330, 24 hours a day, seven days a week, to contact Ms. Favorite.

SUPPLEMENTARY INFORMATION: On August 8, 2002, Calista Corporation, an Alaskan Native regional corporation, requested the Secretary of the Interior to waive the following regulations:

(1) 43 CFR 2653.4(c). This waiver would allow the Bureau of Land Management (BLM) to reopen the land selection period, and

(2) 43 CFR 2653.9(c). This waiver would allow BLM to suspend the requirement of the minimum acreage and 2-mile linear boundary for lands in application AA-84417.

Waiver of the regulations will allow the Corporation to proceed with planned development activities to fulfill its obligation to make a profit for its shareholders, and to improve the economic opportunities available to the people of the region. The Corporation chose the lands proposed for selection for their potential accomplish both objectives.

Waiver of Regulations

On August 8, 2002, Calista Corporation, an Alaskan Native regional corporation, requested a waiver of a portion of the regulations implementing Sec. 14(h)(8) of the Alaska Native Claims Settlement Act of December 18, 1971, 43 U.S.C. 1613(h)(8). The Secretary of the Interior has concluded that the request meets the criteria for waiver as provided for in 43 CFR 2650.0-8.

As authorized by 43 CFR 2650.0-8, the Secretary waives the requirements of 43 CFR 2653.4(c) and 43 CFR 2653.9(c) for a period of 90 days from the date of this notice to allow Calista Corporation to finalize its proposed selections filed with BLM under the provisions of Sec. 14(h)(8) of ANCSA, as described in application AA-84417. This waiver does not apply to Tps. 8 and 9 S., R. 72 W., and T. 9 S., R. 73 W., Seward Meridian, Alaska.

Dated: March 26, 2004.
Rebecca W. Watson,
Assistant Secretary—Land and Minerals Management.

[FR Doc. 04-7825 Filed 4-5-04; 8:45 am]

BILLING CODE 4310-84-P